DEPARTMENT OF ENERGY

Federal Energy Regulatory Commission

[Docket No. CP20-455-000]

Freeport LNG Development, L.P., FLNG Liquefaction, LLC, FLNG Liquefaction 2, LLC and FLNG Liquefaction 3, LLC; Notice of Schedule for Environmental Review of the Noble Gas Project

On May 13, 2020, Freeport LNG Development, L.P., FLNG Liquefaction, LLC, FLNG Liquefaction 2, LLC, and FLNG Liquefaction 3, LLC (together referred to as Freeport LNG) filed an application in Docket No. CP20-455-000 requesting authorization pursuant to Section 3 of the Natural Gas Act to construct and operate certain modifications to its Pretreatment Facility in Brazoria County, Texas. The proposed project is known as the Noble Gas Project (Project).

On May 28, 2020, the Federal Energy Regulatory Commission (Commission or FERC) issued its Notice of Application for the project. Among other things, that notice alerted agencies issuing federal authorizations of the requirement to complete all necessary reviews and to reach a final decision on a request for a federal authorization within 90 days of the date of issuance of the Commission staff's Environmental Assessment (EA) for the project. This instant notice identifies the FERC staff's planned schedule for the completion of the EA for the project.

Schedule for Environmental Review

Issuance of EA—December 18, 2020

90-day Federal Authorization Decision Deadline—March 18, 2021

If a schedule change becomes necessary, additional notice will be provided so that the relevant agencies are kept informed of the project's progress.

Project Description

Freeport LNG requests authorization to construct and operate modifications to Freeport LNG's existing Pretreatment Facility in Brazoria County, Texas, to allow for the extraction of helium from the existing compressed boil-off gas (BOG) pipeline. The Pretreatment Facility is part of the Freeport LNG Terminal, and is located about 1.5 miles from the liquefaction facilities on Quintana Island. The modifications to the Pretreatment Facility include tie-ins to the BOG pipeline, a firewater system, and a nitrogen utility unit at the Pretreatment Facility. The project also requires a non-jurisdictional helium extraction and purification plant and associated electric supply tie-in.

Background

On July 16, 2020, the Commission issued a Notice of Intent to Prepare an Environmental Assessment for the Proposed Noble Gas Project and Request for Comments on Environmental Issues (NOI). The NOI was sent to affected landowners; federal, state, and local government agencies; elected officials; environmental and public interest groups; Native American tribes; other interested parties; and local libraries and newspapers. The Commission received no comments in response to the NOI. The U.S. Department of Transportation—Pipeline and Hazardous Materials Safety Administration is a cooperating agency in the preparation of the EA.

Additional Information

In order to receive notification of the issuance of the EA and to keep track of all formal issuances and submittals in specific dockets, the Commission offers a free service called eSubscription. This can reduce the amount of time you spend researching proceedings by automatically providing you with notification of these filings, document summaries, and direct links to the documents. Go to https://www.ferc.gov/ferc-online/overview to register for eSubscription.

Additional information about the Project is available from the Commission's Office of External Affairs at (866) 208-FERC or on the FERC website (www.ferc.gov). Using the “eLibrary” link, select “General Search” from the eLibrary menu, enter the selected date range and “Docket Number” excluding the last three digits (i.e., CP20-455), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: October 29, 2020.
Nathaniel J. Davis, Sr.,
Deputy Secretary.

[FR Doc. 2020-24458 Filed 11-3-20; 8:45 am]

BILLING CODE 6717-01-P